DEPARTMENT OF ENERGY

Federal Energy Regulatory Commission

Combined Notice of Filings

Take notice that the Commission has received the following Natural Gas Pipeline Rate and Refund Report filings:

Docket Numbers: RP21-596-000.

Applicants: Rover Pipeline LLC.

Description: § 4(d) Rate Filing: Summary of Negotiated Rate Capacity Release Agreements on 3-2-21 to be effective 3/1/2021.

Filed Date: 3/2/21.

Accession Number: 20210302-5043.

Comments Due: 5 p.m. ET 3/15/21.

Docket Numbers: RP21-597-000.

Applicants: Black Hills Shoshone Pipeline, LLC.

Description: § 4(d) Rate Filing: Annual Adjustment of Lost and Unaccounted For Gas Percentage to be effective 4/1/2021.

Filed Date: 3/2/21.

Accession Number: 20210302-5074.

Comments Due: 5 p.m. ET 3/15/21.

Docket Numbers: RP21-598-000.

Applicants: Direct Energy Business Marketing, LLC, National Grid.

Description: Joint Petition For Temporary Waiver, et al. of Direct Energy Business Marketing, LLC, et al. under RP21-598.

Filed Date: 3/2/21.

Accession Number: 20210302-5091.

Comments Due: 5 p.m. ET 3/9/21.

Docket Numbers: RP21-599-000.

Applicants: NextEra Energy Marketing, LLC, Brooklyn Union Gas Company d/b/a National.

Description: Joint Petition For Temporary Waiver, et al. of NextEra Energy Marketing, LLC, et al. under RP21-599.

Filed Date: 3/2/21.

Accession Number: 20210302-5092.

Comments Due: 5 p.m. ET 3/9/21.

Docket Numbers: RP21-600-000.

Applicants: East Tennessee Natural Gas, LLC.

Description: § 4(d) Rate Filing: CNX Contract 410260—Non-Conforming and NegRate to be effective 4/1/2021.

Filed Date: 3/2/21.

Accession Number: 20210302-5160.

Comments Due: 5 p.m. ET 3/15/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 3, 2021.
Nathaniel J. Davis, Sr.,
Deputy Secretary.

[FR Doc. 2021-04830 Filed 3-8-21; 8:45 am]

BILLING CODE 6717-01-P